DEPARTMENT OF ENERGY

[Docket Nos. EA-244 and EA-245]

Application to Export Electric Energy; IDACORP Energy, L.P.

AGENCY: Office of Fossil Energy, DOE.

ACTION: Notice of applications.

SUMMARY: Idaho Power Company (IPC) and IDACORP Energy L.P. (IELP) jointly applied to transfer the authority to export electric energy from the United States to Canada and to Mexico, pursuant to section 202(e) of the Federal Power Act, from IPC to IELP.

DATES: Comments, protests or requests to intervene must be submitted on or before August 17, 2001.

ADDRESSES: Comments, protests or requests to intervene should be addressed as follows: Office of Coal & Power Imports/Exports (FE-27), Office of Fossil Energy, U.S. Department of Energy, 1000 Independence Avenue, SW., Washington, DC 20585-0350 (FAX 202-287-5736).

FOR FURTHER INFORMATION CONTACT: Rosalind Carter (Program Office) 202-586-7983 or Michael Skinker (Program Attorney) 202-586-6667.

SUPPLEMENTARY INFORMATION: Exports of electricity from the United States to a foreign country are regulated and require authorization under section 202(e) of the Federal Power Act (FPA) (16 U.S.C. 824a(e)).

On June 19, 2000, in Docket EA-222, and on March 30, 2001, in Docket EA-233, the Office of Fossil Energy (FE) of the Department of Energy (DOE) authorized IPC to export electric energy from the U.S. to Canada and to Mexico, respectively, using a collection of international transmission facilities appropriate for third-party transmission of electric energy.

IDACORP, Inc. is a holding company of both IPC and IELP. The proposed request to transfer export authority is occasioned by a corporate reorganization of IDACORP, Inc., in which IPC will perform only public utility functions of owning and operating generating and transmission facilities while IELP will perform only power marketing functions. Since IPC will no longer be performing power marketing functions, the subject applications request the transfer of the authority to export electric energy from IPC to IELP.

IELP will purchase the electric energy to be exported to Mexico and to Canada from electric utilities, Federal power marketing agencies, cogeneration and small power production facilities, and exempt wholesale generators within the United States.

In FE Docket EA-244, IELP proposes to arrange for the delivery of electric energy to Mexico over the international transmission facilities owned by San Diego Gas & Electric Company, El Paso Electric Company, Central Power and Light Company, and Comision Federal de Electricidad, the national electric utility of Mexico.

In FE Docket EA-245, IELP proposes to arrange for the delivery of electric energy to Canada over the international transmission facilities owned by Basin Electric Power Cooperative, Bonneville Power Administration, Citizens Utilities, Eastern Maine Electric Cooperative, International Transmission Company, Joint Owners of the Highgate Project, Long Sault, Inc., Maine Electric Power Company, Maine Public Service Company, Minnesota Power, Inc., Minnkota Power Cooperative, New York Power Authority, Niagara Mohawk Power Corporation, Northern States Power, and Vermont Electric Transmission Company.

The construction of each of the international transmission facilities to be utilized by IELP, as more fully described in the applications, has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's rules of practice and procedures (18 CFR 385.211, 385.214). Fifteen copies of each petition and protest should be filed with the DOE on or before the date listed above.

Comments on the IELP application to transfer IPC's authority to export electric energy to Mexico should be clearly marked with Docket EA-244. Comments on the IELP application to transfer IPC's authority to export electric energy to Canada should be clearly marked with Docket EA-245. Additional copies are to be filed directly with Ms. Michelle I. K. Catherine, Manager, Contracts Administration, IDACORP Energy, L.P., Cottonwood Plaza, 350 North Mitchell Street, Boise, ID 83704 AND Mr. Jeffrey S. Burk, Steptoe & Johnson LLP, 1330 Connecticut Avenue, NW., Washington, DC 20036

A final decision will be made on this application after the environmental impacts have been evaluated pursuant to the National Environmental Policy Act of 1969, and a determination is made by the DOE that the proposed action will not adversely impact on the reliability of the U.S. electric power supply system.

Copies of these applications will be made available, upon request, for public inspection and copying at the address provided above or by accessing the Fossil Energy Home Page at http://www.fe.doe.gov. Upon reaching the Fossil Energy Home page, select “Electricity Regulation” and then “Pending Procedures” from the options menus.

Issued in Washington, DC on July 12, 2001.
Anthony J. Como,
Deputy Director, Electric Power Regulation, Office of Coal & Power Imports/Exports, Office of Coal & Power Systems, Office of Fossil Energy.

[FR Doc. 01-17916 Filed 7-17-01; 8:45 am]

BILLING CODE 6450-01-P